DEPARTMENT OF TRANSPORTATION

Federal Aviation Administration

RTCA Special Committee 193/EUROCAE Working Group 44: Terrain and Airport Databases

AGENCY: Federal Aviation Administration (FAA), DOT.

ACTION: Notice of RTCA Special Committee 193/EUROCAE Working Group 44 meeting.

SUMMARY: The FAA is issuing this notice to advise the public of a meeting of RTCA Special Committee 193/EUROCAE Working Group 44: Terrain and Airport Databases.

DATES: The meeting will be held December 3-7, 2001 from 9 am-5 pm.

ADDRESSES: The meeting will be held at FAA National Aeronautical Charting Organization (NACO), NOAA Bldg., SSMC-2, Room 2358, 1305 East-West Highway, Silver Spring, MD.

FOR FURTHER INFORMATION CONTACT: RTCA Secretariat, 1828 L Street, NW., Suite 805, Washington, DC 20036; telephone (202) 833-9339; fax (202) 833-9434; web. site http://WWW.rtca.org.

SUPPLEMENTARY INFORMATION: Pursuant to section 10(a)(2) of the Federal Advisory Committee Act Pub. L. 92-463, 5 U.S.C., appendix 2), notice is hereby given for a Special Committee 193/EUROCAE Working Group 44 meeting. The agenda will include:

• December 3:

• Opening Plenary Session (Welcome and Introductory Remarks, Review/Approval of Meeting Agenda, Review Summary of Previous Meeting)

• Presentations/Discussions of formation of new Subgroup 4 (Database Exchange Format); Introduction of new Subgroup 4 Chairman

• Subgroup 2 (Terrain and Obstacle Databases):

• Review past minutes and actions; Presentations; Review of draft document; Begin Final Review and Comment (FRAC) process for Standards for Terrain and Obstacle Databases document.

• Subgroup 4 (Database Exchange Format):

• Begin new subgroup 4; Establish goals and objectives for new subgroup; Start work on new document.

• December 4, 5, 6:

• Subgroups 2 and 4 continue discussions

• Plenary Forms:

• Complete FRAC process and achieve plenary consensus for the Standards for Terrain and Obstacle Database document.

• December 7:

• Closing Plenary Session (Summary of Subgroups 2 and 4 meetings; Assign Tasks, Other Business, Date and Place of Next Meeting, Adjourn)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 9, 2001.
Janice L. Peterson,
FAA Special Assistant, RTCA Advisory Committee.

[FR Doc. 01-28732 Filed 11-15-01; 8:45 am]

BILLING CODE 4910-13-M